DEPARTMENT OF HOMELAND SECURITY

Coast Guard

[CGD08-07-015]

Lower Mississippi River Waterway Safety Advisory Committee

AGENCY: Coast Guard, DHS.

ACTION: Notice of meeting.

SUMMARY: The Lower Mississippi River Waterway Safety Advisory Committee (LMRWSAC) will meet to discuss various issues relating to navigational safety on the Lower Mississippi River and related waterways. The meeting will be open to the public.

DATES: The next meeting of LMRWSAC will be held on Tuesday, August 28, 2007, from 9 a.m. to 12 p.m. This meeting may adjourn early if all business is finished. Requests to make oral presentations or submit written materials for distribution at the meeting should reach the Coast Guard on or before August 14, 2007. Requests to have a copy of your material distributed to each member of the committee in advance of the meeting should reach the Coast Guard on or before August 14, 2007.

ADDRESSES: The meeting will be held in the World Trade Center of New Orleans, 2 Canal Street, 18th Floor, New Orleans, LA 70130. This notice is available on the Internet at http://dms.dot.gov.

FOR FURTHER INFORMATION CONTACT: Lieutenant Junior Grade (LTJG) Thao Nguyen, Assistant Committee Administrator, e-mail thao.v.nguyen@uscg.mil or LTJG Tom Sanborn, e-mail tom.a.sanborn@uscg.mil. Written materials and requests to make presentations should be mailed to Commanding Officer, USCG Sector New Orleans, Attn: Waterways Management, 1615 Poydras St., New Orleans, LA 70112.

SUPPLEMENTARY INFORMATION: Notice of this meeting is given under the Federal Advisory Committee Act, 5 U.S.C. App. (Pub. L. 92-463).

Agenda of Meeting

Lower Mississippi River Waterway Safety Advisory Committee (LMRWSAC). The agenda includes the following:

(1) Introduction of committee members

(2) Opening Remarks

(3) Approval of the May 23, 2007 minutes

(4) Old Business:

(a) Captain of the Port status report

(b) VTS update report

(c) Subcommittee/Working Groups update reports

(5) New Business

(6) Adjournment

Procedural

The meeting is open to the public. Please note that the meeting may close early if all business is finished. At the Chair's discretion, members of the public may make oral presentations during the meeting. If you would like to make an oral presentation at the meeting, please notify the Assistant Committee Administrator no later than August 14, 2007. Written material for distribution at the meeting should reach the Coast Guard no later than August 14, 2007. If you would like a copy of your material distributed to each member of the committee in advance of the meeting, please submit 25 copies to the Assistant Committee Administrator no later than August 14, 2007.

Information on Services for Individuals With Disabilities

For information on facilities or services for individuals with disabilities, or to request special assistance at the meeting, contact the Assistant Committee Administrator at the location indicated under Addresses as soon as possible.

Dated: June 28, 2007.
J.R. Whitehead
Rear Admiral, U.S. Coast Guard, Commander, Eighth Coast Guard District.

[FR Doc. 07-3424 Filed 7-12-07; 8:45 am]

BILLING CODE 4910-15-M